Proclamation 8620 of December 21, 2010

National Stalking Awareness Month, 2011

By the President of the United States of America

A Proclamation

Stalking is a serious and pervasive crime that affects millions of Americans each year in communities throughout our country. Though we have gained a better understanding of stalking and its prevalence since the passage of the Violence Against Women Act in 1994, this dangerous and criminal behavior is still often mischaracterized as harmless. During Stalking Awareness Month, we acknowledge the seriousness of stalking, we recognize its impact on victims, and we recommit to reducing its incidence.

Persistent stalking and harassment can lead to serious consequences for victims, whose lives may be upended by fear. Some victims may be forced to take extreme measures to protect themselves, such as changing jobs, relocating to a new home, or even assuming a new identity. Stalking can happen to anyone, and most victims are stalked by someone they know. Young adults are particularly vulnerable, and women are at greater risk for stalking victimization than men.

Stalking can be a difficult crime to recognize. The majority of survivors do not report stalking victimization to the police, in part because perpetrators use a variety of tactics to intimidate and harass their victims. Increasingly, stalkers use modern technology to monitor and torment their victims, and one in four victims report some form of cyberstalking—such as threatening emails or instant messaging—as part of their harassment.

My Administration is working across the Federal Government to protect victims of violence and enable survivors to break the cycle of abuse or harassment. Stalking affects too many Americans to remain a hidden crime, and a strong stand is required in order to both support victims and hold perpetrators accountable.

As a Nation, we have made progress, but much work remains to respond to this criminal behavior. We must work together to educate the public about the potentially deadly nature of stalking, to encourage victims to seek help, to inform criminal justice professionals about the intersection of stalking and other dangerous crimes, and to support law enforcement in their efforts.

NOW, THEREFORE, I, BARACK OBAMA, President of the United States of America, by virtue of the authority vested in me by the Constitution and the laws of the United States, do hereby proclaim January 2011 as National Stalking Awareness Month. I call on all Americans to learn to recognize the signs of stalking, acknowledge stalking as a serious crime, and urge those impacted not to be afraid to speak out or ask for help. Let us also resolve to support victims and survivors, and to create communities that are secure and supportive for all Americans.

IN WITNESS WHEREOF, I have hereunto set my hand this twenty-first day of December, in the year of our Lord two thousand ten, and of the Independence of the United States of America the two hundred and thirty-fifth.

[FR Doc. 2010-32619

Filed 12-23-10; 8:45 am]

Billing code 3195-W1-P